DEPARTMENT OF AGRICULTURE

Food Safety and Inspection Service

[Docket No. FSIS-2006-0040E]

Product Labeling: Definition of the Term “Natural”

AGENCY: Food Safety and Inspection Service, USDA.

ACTION: Notice of petition and public meeting; extension of comment period.

SUMMARY: The Food Safety and Inspection Service (FSIS) is re-opening and extending the comment period on a petition submitted by Hormel Foods on the voluntary labeling claim “natural” and on the broader question of how to define this claim. The original comment period closed on January 11, 2007. The Agency is taking this action in response to requests that were made at and after a public meeting that the Agency held on December 12, 2006, to discuss both the Hormel petition and issues associated with the claim “natural” in general.

DATES: Comments are due by March 5, 2007.

ADDRESSES: Comments may be submitted by any of the following methods:

Federal eRulemaking Portal: This Web site provides the ability to type short comments directly into the comment field on this Web page or attach a file for lengthier comments. Go to http://www.regulations.gov and, in the “Search for Open Regu1ations” box, select “Food Safety and Inspection Service” from the agency drop-down menu, and then click on “Submit.” In the Docket ID column, select FDMS Docket Number FSIS-2005-0040 to submit or view public comments and to view supporting and related material available electronically. This docket can be viewed using the “Advanced Search” function in Regulations.gov.

Mail, including floppy disks or CD-ROM's, and hand or courier-delivered items: Send to Docket Clerk, U.S. Department of Agriculture, Food Safety and Inspection Service, 300 12th Street, SW., Room 102 Cotton Annex, Washington, DC 20250.

Electronic mail: FSIS.regulationscomments@fsis.usda.gov.

All submissions received by mail and electronic mail must include the Agency name and docket number FSIS-2006-0040. All comments submitted in response to this notice will be available for public inspection in the FSIS Docket Room at the address listed above between 8:30 a.m. and 4:30 p.m., Monday through Friday. The comments also will be posted to the regulations.gov Web site and on the Agency's Web site at http://www.fsis.usda.gov/regulations_&_policies/2006_Proposed_Rules_Index/index.asp.

FOR FURTHER INFORMATION CONTACT: Robert C. Post, Director, Labeling and Consumer Protection Staff, Office of Policy, Program, and Employee Development, USDA, FSIS, 1400 Independence Avenue, SW., Washington, DC 20250, (202) 205-3625, e-mail: Robert.Post@fsis.usda.gov.

SUPPLEMENTARY INFORMATION: On December 5, 2006, FSIS published a notice in the Federal Register that announced the receipt of a petition submitted by Hormel Foods requesting that the Agency amend the meat inspection and poultry products inspection regulations to establish a definition for the voluntary claim “natural” and to delineate the conditions under which the claim can be used on the labels of meat and poultry products (71 FR 70503). In the notice, FSIS gave the public until January 11, 2007, to submit comments on the petition and on issues associated with the claim “natural” in general. The notice also announced that, to facilitate the comment process, the Agency would hold a public meeting to discuss the petition. The public meeting was held on December 12, 2006. In the December 5, 2006, Federal Register notice, FSIS also announced that after the comment period for the petition closes, the Agency will initiate rulemaking on the “natural” claim.

At, as well as after, the December 12, 2006, public meeting, FSIS received several comments requesting that the Agency extend the comment period provided in the December 5, 2006, Federal Register notice by an additional 60 days from the initial closing date of January 11, 2007. The comments were submitted by a representative of a food ingredient manufacturer, a trade association that represents flavor manufacturers and others with an interest in the U.S. flavor industry, and a group of trade associations that represent the meat, poultry, and food processing industries.

All of the comments stated that because the issues surrounding the claim “natural” are complex, interested parties need additional time than what was provided in the December 5, 2006, Federal Register notice to prepare thoughtful comments. The comments also argued that, to properly consider issues associated with the petition and the claim “natural,” stakeholders must have access to the information presented by both FSIS and the public at the December 12, 2006, public meeting. One comment stated that it is important that stakeholders have the opportunity to thoroughly evaluate possible changes to the definition or criteria for labeling a meat or poultry product “natural” to ensure that the industry is able to continue to market products that bear the “natural” claim and to ensure that these products meet consumer expectations.

In addition to the reasons discussed above, the comments also argued that because the comment period includes the upcoming holidays, trade associations may have a difficult time collecting meaningful input from their members before the January 11, 2007, closing date. The comments also stated that the comment period falls during what is typically the busiest time of year for meat and poultry companies. One comment stated that FSIS gave little notice before the December 12, 2006, public meeting, and that interested parties lost time preparing comments for the public meeting and rearranging their schedules to attend the public meeting.

FSIS agrees that the issues surrounding the labeling claim “natural” are complex, and that interested parties should have additional time to consider information presented at the December 12, 2006, public meeting. Therefore, to facilitate the comment process, the Agency has decided to re-open and extend the comment period until March 5, 2007. The transcript of the December 12, 2006, public meeting is now available on the FSIS Web site at http://www.fsis.usda.gov/News_&_Events/2006_events/index.asp for viewing by the public. Therefore, this notice announces that the Agency is re-opening and extending the comment period for the Hormel petition until March 5, 2007.

Additional Public Notification

Public awareness of all segments of rulemaking and policy development is important. Consequently, in an effort to ensure that the public and in particular minorities, women, and persons with disabilities, are aware of this proposal, FSIS will announce it on-line through the FSIS Web page located at http://www.fsis.usda.gov/regulations_&_policies/2006_Proposed_Rules_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an email subscription service which provides automatic and customized access to selected food safety news and information. This service is available at http://www.fsis.usda.gov/news_and_events/email_subscription/.

Options range from recalls to export information to regulations, directives and notices. Customers can add or delete subscriptions themselves and have the option to password protect their account.

Done in Washington, DC: January 12, 2007.
Barbara J. Masters,
Administrator.

[FR Doc. 07-192 Filed 1-12-07; 3:10 pm]

BILLING CODE 3410-DM-P